DEPARTMENT OF HEALTH AND HUMAN SERVICES

Agency for Toxic Substances and Disease Registry

[ATSDR-276]

Availability of Final Toxicological Profiles

AGENCY: Agency for Toxic Substances and Disease Registry (ATSDR), Department of Health and Human Services (HHS).

ACTION: Notice of availability.

SUMMARY: This notice announces the availability of ten final toxicological profiles of priority hazardous substances prepared by ATSDR.

FOR FURTHER INFORMATION CONTACT: Ms. Delores Grant, Division of Toxicology and Human Health Sciences, Agency for Toxic Substances and Disease Registry, Mailstop F-57, 1600 Clifton Road NE., Atlanta, Georgia 30333; telephone number (800) 232-4636 or (770)488-3351. Electronic access to these documents is available at the ATSDR Web site: www.atsdr.cdc.gov/toxprofiles/index.asp.

SUPPLEMENTARY INFORMATION: The Superfund Amendments and Reauthorization Act of 1986 (SARA) (42 U.S.C. 9601 et seq.) amended by the Comprehensive Environmental Response, Compensation, and Liability Act of 1980 (CERCLA or Superfund) (42 U.S.C. 9601 et seq.) by establishing certain requirements for ATSDR and the U.S. Environmental Protection Agency (EPA) with regard to hazardous substances that are most commonly found at facilities on the CERCLA National Priorities List (NPL). Among these statutory requirements is a mandate for the Administrator of ATSDR to prepare toxicological profiles for each substance included on the priority list of hazardous substances (also called the Substance Priority List). This list identifies 275 hazardous substances that ATSDR (in cooperation with EPA) has determined pose the most significant potential threat to human health. The availability of the revised list of the 275 priority substances was announced in the Federal Register on November 3, 2011 (76 FR 68193) and is available at www.atsdr.cdc.gov/spl. In addition, ATSDR has the authority to prepare toxicological profiles for substances not found at sites on the National Priorities List, in an effort to “* * * establish and maintain inventory of literature, research, and studies on the health effects of toxic substances” under CERCLA Section 104(i)(1)(B), to respond to requests for consultation under section 104(i)(4), and as otherwise necessary to support the site-specific response actions conducted by ATSDR.

Notice of the availability of these toxicological profiles in draft form for public review and comment was published in the Federal Register on November 6, 2008 (73 FR 66047) and December 17, 2009 (74 FR 66978), with notice of a 90-day public comment period for each profile, starting from the actual release date. Following the close of the comment period, chemical-specific comments were addressed, and, where appropriate, changes were incorporated into each profile. The public comments and other data submitted in response to the Federal Register notices bear the docket control numbers ATSDR-247, ATSDR-256. This material is available for public inspection at ATSDR.

Availability

This notice announces the availability of three new and seven updated final toxicological profiles of priority hazardous substances prepared by ATSDR. The following final toxicological profiles were made available to the public on December 7, 2012. These documents are available at the ATSDR Web site: www.atsdr.cdc.gov/toxprofiles/index.asp.

Toxicological profile | CAS No.
1. Acrylamide | 79-06-1
2. 1,3-Butadiene | 106-99-0
3. Cadmium | 7440-43-9
4. Carbon Monoxide | 630-08-0
5. Chromium | 7440-47-3
6. 1,4-Dioxane | 123-91-1
7. Manganese | 7439-96-5
8. Phosphate Ester Flame Retardants | 78-51-3 126-73-8 126-71-6 115-86-6 13674-84-5 13674-87-8 115-96-8
9. Radon | 10043-92-2
10. Vanadium | 7440-62-2

The final profiles are also available through the U.S. Department of Commerce, National Technical Information Service (NTIS), 5285 Port Royal Road, Springfield, Virginia 22161, telephone 1-800-553- 6847. These profiles are available for a fee as determined by NTIS.

Dated: December 6, 2012.
Ken Rose,
Director, Office of Policy, Planning and Evaluation, National Center for Environmental Health/ Agency for Toxic Substances and Disease Registry.

[FR Doc. 2012-30087 Filed 12-12-12; 8:45 am]

BILLING CODE 4163-70-P